FEDERAL MARITIME COMMISSION

[Docket No. 05-02]

SAT International Corporation v. Great White Fleet (US), Ltd.; Notice of Filing of Complaint and Assignment

Notice is given that a complaint has been filed with the Federal Maritime Commission (“Commission”) by SAT International Corporation (“SAT” or “Complainant”) against Great White Fleet (US), Ltd. (“Great White” or “Respondent”). Great White, acting as a VOCC, transported cargo for SAT from the United States to Guatemala. Complainant contends that Respondent violated section 10(b)(4)(E) of the Shipping Act of 1984, 46 U.S.C. app. § 1709(b)(4)(E), by engaging in unfair and unjustly discriminatory practices relating to the adjustment and settlement of claims. Complainant also contends that Respondent violated section 10(d)(1) of the Shipping Act of 1984, 46 U.S.C. app. § 1709(d)(1), by failing to establish, observe, and enforce just and reasonable regulations and practices relating to the handling of SAT's goods. Complainant claims that it has suffered damages in the amount of at least $69,520. Complainant seeks an order directing Respondent to cease and desist from such unlawful activities and compelling Respondent to make reparations to SAT in an amount to be proved at an administrative hearing, plus interest, costs, and reasonable attorneys' fees.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by March 9, 2006 and the final decision of the Commission shall be issued by July 7, 2006.

Bryant L. VanBrakle,
Secretary.

[FR Doc. 05-5424 Filed 3-17-05; 8:45 am]

BILLING CODE 6730-01-P